CORPORATION FOR NATIONAL AND COMMUNITY SERVICE

Agency Information Collection Activities; Submission to the Office of Management and Budget for Review and Approval; Comment Request; Day of Service Application Instructions; Proposed Information Collection; Comment Request

AGENCY: Corporation for National and Community Service.

ACTION: Notice.

SUMMARY: The Corporation for National and Community Service (CNCS) has submitted a public information collection request (ICR) entitled Day of Service Application Instructions for review and approval in accordance with the Paperwork Reduction Act.

DATES: Written comments must be submitted to the individual and office listed in the ADDRESSES section by December 27, 2019.

ADDRESSES: Direct written comments and/or suggestions regarding the items contained in this Notice to the Attention: CNCS Desk Officer, Office of Information and Regulatory Affairs, Office of Management and Budget, 725 17th Street NW, Washington, DC 20503 or by fax to (202) 395-5806. Provide written comments within 30 days of Notice publication.

FOR FURTHER INFORMATION CONTACT: Copies of this ICR, with applicable supporting documentation, may be obtained by calling the Corporation for National and Community Service, Sara Fry, at 202-815-4982 or by email to sfry@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on August 29, 2019 at Vol. 84 page 45471. This comment period ended October 28, 2019. One public comment, which was not applicable to the Notice's content, was received.

Title of Collection: Day of Service Application Instructions.

OMB Control Number: 3045-0180. Type of Review: Renewal.

Respondents/Affected Public: Nonprofit Organizations.

Total Estimated Number of Annual Responses: 70.

Total Estimated Number of Annual Burden Hours: 1,260.

Abstract: This information collection seeks feedback on CNCS's Day of Service Application Instructions for future Day of Service grant competitions after the expiration of the current Application Instructions. CNCS also seeks to continue using the currently approved information collection until the revised information collection is approved by OMB. The currently approved information collection is due to expire on December 31, 2019.

Dated: November 20, 2019.
Sara Fry,
Days of Service Program Officer.

[FR Doc. 2019-25751 Filed 11-26-19; 8:45 am]

BILLING CODE 6050-28-P